FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants:

Independent Transport Line, LLC d/b/a ITL, 7600 Avenue P, Berth 46-48, Houston, TX 77262-5298. Officer: Tina Marie Modica, President, (Qualifying Individual)

Internet Shipping Lines, Inc., 153-40 Rockaway Blvd., Jamaica, NY 11434. Officer: Metin Nerkis, CEO, (Qualifying Individual)

You First Express, Inc., 1204 W. Gardena Blvd., #D, Gardena, CA 90247. Officer: Kyu Weon Choi, CEO, (Qualifying Individual)

LOF Express, Inc., 1125 Satellite Blvd., #110, Suwanee, GA 30024. Officers: Young J. Kim, Secretary, (Qualifying Individual), Jennifer Lee, President

Bridge International Logistics Limited, 1565 Windridge Place, Apt. #C, Troy, OH 45373. Officers: William R. Netzley, CEO, (Qualifying Individual), Marina I. Demoss, Vice President

Non-Vessel—Operating Common Carrier and Ocean Freight Forwarder Transportation Intermediary Applicants:

Karibbean America Logistics, Inc., 3741 NW 66th Avenue, Miami, FL 33166. Officers: Jorge M. Palacios, President, (Qualifying Individual)

ABAD Air, Inc., 8170 NW 66th Street, Miami, FL 33166. Officer: Wladimir Abad, President, (Qualifying Individual)

YJC Global, Inc., 4444 Casa Grande, #61, Ciprés, CA 90630. Officers: Byung Keun Han, President, (Qualifying Individual), Jeong M. Kim, Secretary

3 Plus Logistics Co., 20250 S. Alameda Street, Rancho Dominguez, CA 90221. Officers: Jae Hoon Juhn, Vice President, (Qualifying Individual), Peter Young Suk Kim, President

Ocean Freight Forwarder—Ocean Transportation Intermediary Applicants:

A.W.L.I. Group, Inc. d/b/a Amber Worldwide Logistics, 147-60 175th Street, Jamaica, NY 11434. Officers: Elaine Rosendorf, President, (Qualifying Individual), Keith Milliner, Vice President

A.W.L.I. Group Inc. d/b/a Amber Worldwide Logistics, 1358 NW 78th Avenue, Miami, FL 33126. Officers: Elaine Rosendorf, President, (Qualifying Individual), Keith Milliner, Vice President

Dated: January 21, 2005.
Bryant L. VanBrakle,
Secretary.

[FR Doc. 05-1448 Filed 1-25-05; 8:45 am]

BILLING CODE 6730-01-P